DEPARTMENT OF COMMERCE

Patent and Trademark Office

Agency Information Collection Activities; Submission to the Office of Management and Budget (OMB) for Review and Approval; Comment Request; Trademark Submissions Regarding Correspondence and Regarding Attorney Representation

AGENCY: United States Patent and Trademark Office, Department of Commerce.

ACTION: Notice of an information collection; request for comment.

SUMMARY: The United States Patent and Trademark Office (USPTO), in accordance with the Paperwork Reduction Act of 1995, invites comments on the extension and revision of an existing information collection: 0651-0056 (Trademark Submissions Regarding Correspondence and Regarding Attorney Representation). The purpose of this notice is to allow 60 days for public comment preceding submission of the information collection to OMB.

DATES: To ensure consideration, comments regarding this information collection must be received on or before November 30, 2020.

ADDRESSES: Interested persons are invited to submit written comments by any of the following methods. Do not submit Confidential Business Information or otherwise sensitive or protected information.

• Email: InformationCollection@uspto.gov. Include “0651-0056 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Catherine Cain, Attorney Advisor, United States Patent and Trademark Office, P.O. Box 1450, Alexandria, VA 22313-1450; by telephone at 571-272-8946; or by email to catherine.cain@uspto.gov with “0651-0056 comment” in the subject line. Additional information about this collection is also available at http://www.reginfo.gov under “Information Collection Review.”

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses that use or intend to use such marks in commerce may file an application to register their marks with the USPTO.

Such individuals and business may also submit various communications to the USPTO regarding their pending applications or registered trademarks, including providing additional information needed to process a pending application, filing amendments to the applications, or filing the papers necessary to keep a trademark in force. In the majority of circumstances, individuals and business retain attorneys to handle these matters. As such, these parties may also submit communications to the USPTO regarding the appointment of attorneys to represent applicants or registrants in the application and post-registration processes or, in the case of applicants or registrants who are not domiciled in the United States, the appointment of domestic representatives on whom may be served notices of process in proceedings affecting the mark, the revocation of an attorney's or domestic representative's appointment, and requests for permission to withdraw from representation.

The regulations implementing the Act are set forth in 37 CFR part 2. Regulations regarding representation of others before the USPTO are also set forth in 37 CFR part 11. In addition to governing the registration of trademarks, the Act and regulations govern the appointment and revocation of attorneys and domestic representatives and provide the specifics for filing requests for permission to withdraw as the attorney of record. The information in this information collection is available to the public.

II. Method of Collection

Items in this information collection must be submitted via online electronic submissions. In limited circumstances, applicants may be permitted to submit the information in paper form by mail, fax, or hand delivery.

III. Data

OMB Control Number: 0651-0056.

Forms:

• PTO Form 2300: (TEAS Change Address or Representation Form)

• PTO Form 2201: (TEAS Request for Withdrawal as Attorney of Record/Update of USPTO's Database After Power of Attorney Ends)

Type of Review: Revision of a currently approved information collection.

Affected Public: Businesses or other for-profits, not-for-profit institutions; individuals or households.

Estimated Number of Respondents: 204,323 respondents per year.

Estimated Number of Responses: 204,323 responses per year.

Estimated Time per Response: The USPTO estimates that it will take the public between 12 minutes (0.2 hours) and 1 hour to complete a response, depending upon the complexity of the situation. This includes the time to gather the necessary information, prepare the appropriate documents, and submit the completed request to the USPTO.

Estimated Time Annual Burden Hours: 50,437 hours.

Estimated Total Annual Respondent (Hourly) Cost Burden: $20,174,800.

Table 1—Total Estimated Hourly Burden for Private Sector Respondents
Item No. | Item | Estimated annual respondents | Estimated annual responses | Estimated time for response (hours) | Estimated annual burden hours | Rate ¹ ($/hour) | Estimated annual cost burden
| (a) | (b) | (a) × (b) = (c) | (d) | (c) × (d) = (e)
1 | Revocation, Appointment, and/or Change of Address of Attorney/Domestic Representative | 162,368 | 162,368 | 0.25 | 40,592 | $400 | $16,236,800
2 | Request for Withdrawal as Attorney of Record/Update of USPTO's Database After Power of Attorney Ends | 12,389 | 12,389 | 0.20 | 2,478 | 400 | 991,200
3 | Replacement of Attorney of Record with Another Already-Appointed Attorney | 88 | 88 | 1 | 88 | 400 | 35,200
4 | Request to Withdraw as Domestic Representative | 873 | 873 | 0.25 | 218 | 400 | 87,200
Total |  | 175,718 | 175,718 |  | 43,376 |  | 17,350,400
¹ 2019 Report of the Economic Survey from the Law Practice Management Committee of the American Intellectual Property Law Association (AIPLA). https://www.aipla.org/detail/journal-issue/2019-report-of-the-economic-survey The hourly rate of $400.

Table 2—Total Estimated Hourly Burden for Individual and Household Respondents
Item No. | Item | Estimated annual respondents | Estimated annual responses | Estimated time for response (hours) | Estimated annual burden hours | Rate ² ($/hour) | Estimated annual cost burden
| (a) | (b) | (a) × (b) = (c) | (d) | (c) × (d) = (e)
1 | Revocation, Appointment, and/or Change of Address of Attorney/Domestic Representative | 26,432 | 26,432 | 0.25 | 6,608 | $400 | $2,643,200
2 | Request for Withdrawal as Attorney of Record/Update of USPTO's Database After Power of Attorney Ends | 2,017 | 2,017 | 0.20 | 403 | 400 | 161,200
3 | Replacement of Attorney of Record with Another Already-Appointed Attorney | 14 | 14 | 1 | 14 | 400 | 5,600
4 | Request to Withdraw as Domestic Representative | 142 | 142 | 0.25 | 36 | 400 | 14,400
Total |  | 28,605 | 28,605 |  | 7,061 |  | 2,824,400
² 2019 Report of the Economic Survey from the Law Practice Management Committee of the American Intellectual Property Law Association (AIPLA). https://www.aipla.org/detail/journal-issue/2019-report-of-the-economic-survey The hourly rate of $400.

Estimated Total Annual Non-Hour Respondent Cost Burden: $1,369.

There are no filing fees or capital start-up, maintenance, operation, or recordkeeping costs associated with this information collection. However, this information collection does have postage costs associated with applicants submitting permitted items by mail. The USPTO estimates that the average first-class postage cost for a mailed submission will be $8.05. The USPTO estimates that 170 permitted paper submissions will be mailed for a total non-hour respondent cost burden of $1,369.

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment—including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2020-21555 Filed 9-28-20; 8:45 am]

BILLING CODE 3510-16-P